DEPARTMENT OF COMMERCE

Census Bureau

Census Scientific Advisory Committee; Virtual Public Meeting

AGENCY: Bureau of the Census, Department of Commerce.

ACTION: Notice of meeting.

SUMMARY: The Bureau of the Census (Census Bureau) is giving notice of a virtual meeting of the Census Scientific Advisory Committee (CSAC). The Committee provides scientific and technical expertise from the following disciplines: Demography, economics, geography, psychology, statistics, survey methodology, social and behavioral sciences, information technology and computing, marketing, and other fields of expertise, as appropriate, to address Census Bureau program needs and objectives. Last minute changes to the schedule are possible, which could prevent giving advance public notice of schedule adjustments. Please visit the Census Advisory Committees website at http://www.census.gov/cac for the CSAC meeting information, including the agenda, and how to join the meeting.

DATES: The virtual meeting will be held on Thursday, November 12, 2020, from 1:00 p.m.-3:00 p.m. EST.

ADDRESSES: In light of the uncertainty related to travel restrictions and social-distancing requirements, resulting from the COVID-19 outbreak, the meeting will be held via the WebEx platform at the following presentation link: https://uscensus.webex.com/uscensus/onstage/g.php?MTID=ed28cd37e0e3598bd4aa098586b29cb95.

For audio, please call the following number: 1-800-857-5051. When prompted, please use the following Participant Code: 8808521.

FOR FURTHER INFORMATION CONTACT: Shana Banks, Advisory Committee Branch Chief, Office of Program, Performance and Stakeholder Integration (PPSI), shana.j.banks@census.gov, Department of Commerce, U.S. Census Bureau, Room 2K128F, 4600 Silver Hill Road, Washington, DC 20233, telephone 301-763-3815. For TTY callers, please use the Federal Relay Service at 1-800-877-8339.

SUPPLEMENTARY INFORMATION: The Committee provides scientific and technical expertise, as appropriate, to address Census Bureau program needs and objectives. The members of the CSAC are appointed by the Director, Census Bureau. The Committee has been established in accordance with the Federal Advisory Committee Act (Title 5, United States Code, Appendix 2, Section 10). The purpose of the meeting is to provide recommendations to the Census Bureau on various program needs and objectives.

All meetings are open to the public. A brief period will be set aside during the virtual meeting for public comments. However, individuals with extensive questions or statements must submit them in writing to shana.j.banks@census.gov, (subject line “2020 CSAC Fall Virtual Meeting Public Comment”).

Steven D. Dillingham, Director, Bureau of the Census, approved the publication of this Notice in the Federal Register.

Dated: October 15, 2020.
Sheleen Dumas,
Department PRA Clearance Officer, Office of the Chief Information Officer, Commerce Department.

[FR Doc. 2020-23169 Filed 10-19-20; 8:45 am]

BILLING CODE 3510-07-P